FEDERAL MINE SAFETY AND HEALTH REVIEW COMMISSION

Meetings; Sunshine Act

October 2, 2003.

Time and Date: 2 p.m., Thursday, October 9, 2003.

Place: Hearing Room, 9th Floor, 601 New Jersey Avenue, NW., Washington, DC

Status: Open.

Matters to be considered: The Commission will hear oral argument on an appeal of Rag Shoshone Coal Corporation from the decision of an administrative law judge in Secretary of Labor v. Rag Shoshone Coal Corporation, Docket No. WEST 99-342-R, WEST 99-384-R and WEST 2000-349. (Issues include whether the judge correctly concluded that the Secretary of Labor's interpretation of 30 CFR 70.207(e)(7) was reasonable; whether the judge correctly concluded that the Secretary of Labor was not required to engage in notice-and-comment rulemaking before imposing the 060 designated occupation for purposes of sampling levels of respirable coal dust; and whether the judge correctly concluded that the Secretary of Labor's imposition of the 060 designated occupation was not arbitrary, capricious, or an abuse of discretion.)

Any person attending this oral argument who requires special accessibility features and/or auxiliary aids, such as sign language interpreters, must inform the Commission in advance of those needs. Subject to 29 CFR 2706.150(a)(3) and 2706.160(d).

FOR FURTHER INFORMATION CONTACT: Jean Ellen (202) 434-9950/(202) 708-9300 for TDD Relay/1-800-877-8339 for toll free.

Jean H. Ellen,
Chief Docket Clerk.

[FR Doc. 03-25623 Filed 10-6-03; 12:29 pm]

BILLING CODE 6735-01-M